Notice of May 5, 2005

Continuation of the National Emergency Blocking Property of Certain Persons and Prohibiting the Export of Certain Goods to Syria

On May 11, 2004, pursuant to my authority under the International Emergency Economic Powers Act (50 U.S.C. 1701-1706) and the Syria Accountability and Lebanese Sovereignty Restoration Act of 2003 (Public Law 108-175), I issued Executive Order 13338 in which I declared a national emergency blocking the property of certain persons and prohibiting the exportation or reexportation of certain goods to Syria. I took this action to deal with the unusual and extraordinary threat to the national security, foreign policy, and economy of the United States constituted by the actions of the Government of Syria in supporting terrorism, continuing its occupation of Lebanon, pursuing weapons of mass destruction and missile programs, and undermining United States and international efforts with respect to the stabilization and reconstruction of Iraq.

Because the actions and policies of the Government of Syria continue to pose an unusual and extraordinary threat to the national security, foreign policy, and economy of the United States, the national emergency declared on May 11, 2004, and the measures adopted on that date to deal with that emergency, must continue in effect beyond May 11, 2005. Therefore, in accordance with section 202(d) of the National Emergencies Act (50 U.S.C. 1622(d)), I am continuing for 1 year the national emergency blocking the property of certain persons and prohibiting the exportation or reexportation of certain goods to Syria.

This notice shall be published in the Federal Register and transmitted to the Congress.

B

THE WHITE HOUSE,

May 5, 2005.

[FR Doc. 05-9440

Filed 5-9-05; 8:45 am]

Billing code 3195-01-P